DEPARTMENT OF COMMERCE

National Oceanic and Atmospheric Administration

50 CFR Part 635

RINs 0648-BI08, 0648-BI10, 0648-BI59

Atlantic Highly Migratory Species; Amendments 13 and 14 to the 2006 Consolidated Atlantic Highly Migratory Species Fishery Management Plan; Spatial Fisheries Management

AGENCY: National Marine Fisheries Service (NMFS), National Oceanic and Atmospheric Administration (NOAA), Commerce.

ACTION: Notice of scoping meetings.

SUMMARY: NMFS announces scoping meetings and webinars for three actions that will evaluate possible revisions to measures implemented under the 2006 Consolidated Atlantic Highly Migratory Species (HMS) Fisheries Management Plan (FMP). The public process for these actions commences with scoping to determine the range of issues for each action. For each action, a notice announcing NMFS' intent to prepare an environmental analysis under the National Environmental Policy Act, and availability of an issues and options paper, is published in a separate Federal Register Notice. In Amendment 13 to the HMS FMP, NMFS considers refining the Individual Bluefin Tuna Quota (IBQ) Program, reassessing allocation of bluefin tuna quotas, including the discontinuing or phasing out of the Purse Seine category, and other regulatory provisions regarding bluefin directed fisheries and incidental pelagic longline fisheries. Amendment 14 explores options to implement the newly-revised National Standard 1 (NS1) guidelines in the context of shark annual catch limits (ACLs), including how to account for uncertainty stemming from either stock assessments or the management process. In the third action, NMFS considers ways to perform research and collect data in closed areas to assess the effectiveness of spatial HMS management.

DATES: Scoping meetings and webinars will be held on the dates listed below in Table 1 of SUPPLEMENTARY INFORMATION.

ADDRESSES: Scoping meetings will be held at the locations listed below in Table 1 of SUPPLEMENTARY INFORMATION.

FOR FURTHER INFORMATION CONTACT: Thomas Warren or Sarah McLaughlin by phone at 978-281-9260 (Amendment 13); Guý DuBeck or Ian Miller by phone at (301) 427-8503 (Amendment 14); Tobey Curtis by phone at (978) 281-9260 or Steve Durkee by phone at (202) 670-6637 (Spatial Management Regulatory Amendment).

SUPPLEMENTARY INFORMATION:

Background

Atlantic HMS (tunas, sharks, swordfish and billfish) are managed under the dual authority of the Magnuson-Stevens Fishery Management and Conservation Act (Magnuson-Stevens Act) and the Atlantic Tunas Convention Act. Under these authorities, regulations at 50 CFR part 635 implement the 2006 Consolidated HMS FMP as amended (copies are available upon request).

NMFS announces scoping meetings and webinars for three actions that will evaluate possible revisions to measures implemented under the 2006 Consolidated HMS FMP. The public process for these actions commences with scoping to determine the range of issues for each action. For each action, a notice announcing NMFS' intent to prepare an environmental analysis under the National Environmental Policy Act, and availability of an issues and options paper, published in separate Federal Register notices. While each of these actions are separate, they are interrelated in some ways. Depending on the outcomes, each action and results could have impacts on the other actions. During the rulemaking process, NMFS will coordinate these actions and clarify any interaction among the actions, or cumulative impacts.

NMFS recently released its “Draft Three-Year Review of the Individual Bluefin Quota (IBQ) Program” (Draft Three-Year Review). The IBQ Program, adopted in Amendment 7 to the 2006 Consolidated HMS FMP (Amendment 7), is a catch share program that introduced individual vessel accountability for bluefin tuna bycatch in the pelagic longline fishery. Formal reviews of such catch share programs are required to evaluate whether their objectives are met. In Amendment 7, NMFS proposed and finalized a plan to formally evaluate the success and performance of the IBQ Program after three years of operation, and to provide the HMS Advisory Panel with a publicly-available written document with its findings. This is the draft review, which is expected to be finalized by September 2019 after consideration by the HMS Advisory Panel.

NMFS also recently released a scoping document (Issues and Options: Amendment 13) for use in 2019 for scoping, a public process during which NMFS will consider a range of issues and objectives, as well as possible options, for Atlantic bluefin tuna management. The options presented in the issues and options paper consider the preliminary results of the Draft Three-Year Review, and respond to recent changes in the bluefin tuna fishery, and input from the public and HMS Advisory Panel. The options include refining the IBQ program, reassessing allocation of bluefin tuna quotas (including the potential discontinuation or phasing out of the Purse Seine category) and other regulatory provisions regarding bluefin tuna directed fisheries and bycatch in the pelagic longline fishery, to determine if existing measures are the best means of achieving current management objectives for bluefin tuna management. During scoping, public feedback will be accepted via written comments or at scoping meetings as described in a separate Federal Register notice.

NMFS has also recently published an issues and options paper for Amendment 14 that reviews annual catch limits and various target reference points for sharks. This action could result in a different process for establishing the annual catch limits for sharks, and therefore could affect all fishermen, commercial and recreational, that target or incidentally catch sharks. During scoping, public feedback will be accepted via written comments or scoping meetings as described in a separate Federal Register notice.

NMFS also released an issues and options paper considering approaches to collect data and perform research in areas that are currently closed to certain gears or fishing activities for Atlantic HMS. Such research will help evaluate and support spatial fisheries management for Atlantic HMS. “Spatial management” refers to a suite of fisheries conservation and management measures that are based on geographic area. When some spatial management tools, such as closed areas, are deployed, the collection of fishery-dependent data is reduced or eliminated. This loss of data can compromise effective fisheries management. The issues and options paper considers approaches to collect data and perform research in areas that may otherwise restrict commercial or recreational fishing, making the collection of fisheries-dependent data challenging or not possible. During scoping, public feedback will be accepted via written comments or at scoping meetings as described in a separate Federal Register notice.

In addition to the three actions listed above, NMFS is also currently in the process of developing a proposed rule regarding pelagic longline bluefin tuna area-based and weak hook management measures. For that action, NMFS recently released a Draft Environmental Impact Statement (DEIS) and intends to release a proposed rule shortly. The comment period of this proposed action overlaps with the comment periods for the three scoping actions. However, the public hearings for the DEIS and related proposed rule will be separate from the scoping meetings announced in this notice, with the exception of the July 30, 2019 meeting listed in Table 1 below. If the proposed rule publishes in time, the July 30 meeting in Toms River will begin with the proposed rule public hearing, and will close with the scoping meeting for Amendment 13. Please see the subsequent Federal Register notice announcing the proposed rule public hearings.

Scoping Process

NMFS encourages participation, by all persons affected or otherwise interested in recreational and commercial HMS fishing, in the process to determine the scope and significance of options to be analyzed and considered in the environmental analysis for these regulatory actions. All such persons are encouraged to submit written comments (see ADDRESSES), or comment at one of the scoping meetings or public webinars. Persons submitting comments are welcome to address the specific measures in the issues and options paper for each action. Requests for sign language interpretation or other auxiliary aids should be directed to Guý DuBeck at 301-427-8503, at least 7 days prior to the meeting.

NMFS is holding scoping meetings in the geographic areas that may be affected by these actions, including locations on the Atlantic and Gulf of Mexico coasts, and webinars accessible via the internet. Scoping meetings and webinars for each action are identified in Table 1. NMFS has also asked to present information on these actions to the Gulf of Mexico, South Atlantic, Mid-Atlantic, and New England Fishery Management Councils at their meetings during the public scoping period. Please see their meeting notices for dates, times, and locations. In addition, these actions will be discussed at the HMS Advisory Panel meeting on May 21-23, 2019 (March 7, 2019; 84 FR 8306).

After public comment has been gathered and analyzed, NMFS will determine if it is necessary to proceed with preparation of an environmental analysis and proposed rule for each action, which would include additional opportunities for public comment. The scope of the environmental analysis would consist of the range of actions, alternatives, and impacts to be considered.

The process of developing a regulatory action is expected to take approximately two years. Until the environmental analysis and proposed rule are finalized or until other regulations are put into place, the current regulations remain in effect.

Table 1—Dates, Times and Locations of the Scoping Meetings and Webinars Instructions
Action | Date | Time | Location and street address
SCOPING MEETINGS
Amendment 13 | June 3, 2019 | 5:00-8:00 p.m | Gulf of Maine Research Institute, 350 Commercial Street, Portland, ME 04101.
Amendment 13, Spatial Management Research | June 4, 2019 | 5:00-8:00 p.m | National Marine Fisheries Service, Greater Atlantic Regional Office, 55 Great Republic Drive, Gloucester, MA 01930.
Amendment 13 | June 18, 2019 | 5:00-8:00 p.m | Chatham Community Center, 702 Main Street, Chatham, MA 02633.
Amendment 13 | June 19, 2019 | 5:00-8:00 p.m | Plymouth Public Library, 132 South Street, Plymouth, MA 02360.
Amendment 14 | June 24, 2019 | 5:00-8:00 p.m | National Marine Fisheries Service, Southeast Regional Office, 263 13th Avenue South, Saint Petersburg, FL 33701.
All | June 25, 2019 | 5:00-8:00 p.m | Susan Broom Kilmer Branch Library, 101 Melody Lane, Ft. Pierce, FL 34950.
Amendment 13 | July 9, 2019 | 5:00-8:00 p.m | NC Division of Marine Fisheries, 5285 Highway 70, Morehead City, NC 28557.
All | July 10, 2019 | 5:00-8:00 p.m | Dare County Administration Building, 954 Marshall Collins Dr., Commissioners Meeting Room, Manteo, NC 27954.
All | July 25, 2019 | 5:00-8:00 p.m | Terrebonne Parish Library (Main Branch), 151 Library Dr., Houma, LA 70360.
Amendment 13 * | July 30, 2019 | 5:00-8:00 p.m | Ocean County Library, Toms River Branch, 101 Washington Street, Toms River, NJ 08753.
WEBINARS
Amendment 13 | June 10, 2019 | 2:00-4:00 p.m | Link: https://noaanmfs-events1.webex.com/noaanmfs-events1/onstage/g.php?MTID=e25072f282e22bc58188f278a9328285e; Dial In: 800-369-1177; Passcode: 2046577.
Amendment 14 | May 28, 2019 | 1:00-3:00 p.m | Link: https://noaanmfs-events1.webex.com/noaanmfs-events1/onstage/g.php?MTID=ed71080c2cb6d03424331aaa808865f0f; Dial In: 888-282-0428; Passcode: 4913538.
Spatial Management Research | June 19, 2019 | 2:00-4:00 p.m | Link: https://noaanmfs-events1.webex.com/noaanmfs-events1/onstage/g.php?MTID=e90547c85b1c1d30c8adedba286178d7d; Dial In: 888-324-8014; Passcode: 5920937.
* The July 30, 2019 meeting in Toms River, NJ may be scheduled along with a public hearing for a proposed rule to modify pelagic longline bluefin tuna area-based and weak hook management measures. For further information, please see the subsequent Federal Register notice announcing the proposed rule public hearing schedule.

The public is reminded that NMFS expects participants at the scoping meetings to conduct themselves appropriately. At the beginning of each scoping meeting, a representative of NMFS will explain the ground rules (e.g., alcohol is prohibited from the meeting room; attendees will be called to give their comments in the order in which they registered to speak; each attendee will have an equal amount of time to speak; and attendees should not interrupt one another). The NMFS representative will attempt to structure the meeting so that all attending members of the public will be able to comment, if they so choose, regardless of the controversial nature of the subject(s). Attendees are expected to respect the ground rules, and, if they do not, they may be asked to leave the scoping meeting.

Authority: 16 U.S.C. 971 et seq; 16 U.S.C. 1801 et seq.

Dated: May 16, 2019.
Kelly L. Denit,
Acting Director, Office of Sustainable Fisheries, National Marine Fisheries Service.

[FR Doc. 2019-10578 Filed 5-21-19; 8:45 am]

BILLING CODE 3510-22-P